DEPARTMENT OF COMMERCE

Foreign-Trade Zones Board

[B-05-2018]

Foreign-Trade Zone 179—Madawaska, Maine; Application for Reorganization Under Alternative Site Framework

An application has been submitted to the Foreign-Trade Zones (FTZ) Board by the Madawaska Foreign-Trade Zone Corporation, grantee of FTZ 179, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on January 25, 2018.

FTZ 179 was approved by the FTZ Board on May 24, 1991 (Board Order 525, 56 FR 25406, June 4, 1991). The current zone includes the following site: Site 1 (3 acres)—Evergreen Manufacturing Group, LLC, 706 Main Street, Madawaska.

The grantee's proposed service area under the ASF would be the towns of Fort Kent, Frenchville, Grand Isle, Madawaska, St. Agatha and Van Buren, Maine, as described in the application. If approved, the grantee would be able to serve sites throughout the service area based on companies' needs for FTZ designation. The application indicates that the proposed service area is within and adjacent to the Madawaska Customs and Border Protection port of entry.

The applicant is requesting authority to reorganize the zone under the ASF. The applicant is also requesting that Site 1 be removed from the zone due to changed circumstances. No new sites are being requested at this time. The application would have no impact on FTZ 179's previous approved authorized subzone.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is April 2, 2018. Rebuttal comments in response to material submitted during the foregoing period may be submitted during the subsequent 15-day period to April 16, 2018.

A copy of the application will be available for public inspection at the Office of the Executive Secretary, Foreign-Trade Zones Board, Room 21013, U.S. Department of Commerce, 1401 Constitution Avenue NW, Washington, DC 20230-0002, and in the

“Reading Room” section of the FTZ Board's website, which is accessible via www.trade.gov/ftz. For further information, contact Kathleen Boyce at Kathleen.Boyce@trade.gov or (202) 482-1346.

Dated: January 25, 2018.
Elizabeth Whiteman,
Acting Executive Secretary.

[FR Doc. 2018-01881 Filed 1-30-18; 8:45 am]

BILLING CODE 3510-DS-P